DEPARTMENT OF ENERGY

Federal Energy Regulatory Commission

[Project No. 14795-002]

Shell Energy North America (US), L.P.; Notice of Availability of Draft Environmental Assessment

In accordance with the National Environmental Policy Act of 1969 and the Federal Energy Regulatory Commission's (Commission) regulations, 18 CFR part 380, the Office of Energy Projects has reviewed the application for license for the Hydro Battery Pearl Hill Pumped Storage Project, which would be located on Rufus Woods Lake, near Bridgeport, Douglas County, Washington and has prepared a Draft Environmental Assessment (DEA) for the project. The project would be located on state lands except for the lower reservoir and power generation and pumping equipment which would be located on Rufus Woods Lake, a reservoir operated by the U.S. Army Corps of Engineers (Corps). The Corps, a cooperating agency for the preparation of this environmental assessment, is reviewing Shell's project for permits it would issue under Sections 10 and 14 of the Rivers and Harbors act of 1899 and Section 404 of the Clean Water Act.

The DEA contains staff's analysis of the potential environmental impacts of the project and concludes that licensing the project, with appropriate environmental protective measures, would not constitute a major federal action that would significantly affect the quality of the human environment.

A copy of the DEA is available for review at the Commission in the Public Reference Room or may be viewed on the Commission's website at http://www.ferc.gov using the eLibrary link. Enter the docket number excluding the last three digits in the docket number field to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

Any comments should be filed within 30 days from the date of this notice.

Comments may be filed electronically via the internet. See 18 CFR 385.2001(a)(1)(iii) and the instructions on the Commission's website (http://www.ferc.gov/docs-filing/ferconline.asp) under the eFiling link. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE, Washington, DC 20426. The first page of any filing should include docket number P-14795-002.

The Commission anticipates issuing the final EA by November 2019.

For further information, contact Ryan Hansen at (202) 502-8074 or at ryan.hansen@ferc.gov.

Dated: August 2, 2019..
Kimberly D. Bose,
Secretary.

[FR Doc. 2019-16953 Filed 8-7-19; 8:45 am]

BILLING CODE 6717-01-P